DEPARTMENT OF HOUSING AND URBAN DEVELOPMENT

[Docket No. FR-FR-5383-N-22]

Notice of Proposed Information Collection for Public Comment; Public/Private Partnerships for the Mixed Finance Development of Public Housing Units

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: November 26, 2010

ADDRESSES: Interested persons are invited to submit comments regarding this proposal. Comments should refer to the proposal by name. The OMB Control number for this Information Collection (IC) is pending, since this IC is being detached from the IC for the Public Housing Capital Fund Program, 2577-0157. Comments should be sent to: Leroy McKinney, Jr., Departmental Reports Management Officer, QDAM, Department of Housing and Urban Development, 451 7th Street, SW., Room 4178, Washington, DC 20410-5000; telephone 202-402-5564, (this is not a toll-free number) or email Mr. McKinney at Leroy.McKinneyJr@hud.gov. Persons with hearing or speech impairments may access this number through TTY by calling the toll-free Federal Information Relay Service at (800) 877-8339. (Other than the HUD USER information line and TTY numbers, telephone numbers are not toll-free.)

FOR FURTHER INFORMATION CONTACT: Arlette Mussington, Office of Policy, Programs and Legislative Initiatives, PIH, Department of Housing and Urban Development, 451 7th Street, SW., Room LP2206, Washington, DC 20410; telephone 202-402-4109, (this is not a toll-free number). Additional information can be obtained at http://ecfr.gpoaccess.gov/under Title 24, part 941, subpart F.

SUPPLEMENTARY INFORMATION: The Department will submit the proposed information collection to OMB for review, as required by the Paperwork Reduction Act of 1995 (44 U.S.C. Chapter 35, as amended). This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses.

This Notice also lists the following information:

Title of Proposal: Public/Private Partnerships for the Mixed Finance Development of Public Housing Units.

OMB Control Number: 2577—pending.

Description of the need for the information and proposed use: The Quality Housing and Work Responsibility (QHWRA) Act of 1998 (HUD Reform Act) authorized PHAs to use a combination of private financing and public housing development funds to develop public housing units (Mixed-Finance Development). The implementing regulation for Mixed-Finance transactions is 24 CFR 941, subpart F. Mixed-Finance public housing development is designed to enable PHAs and their partners to structure transactions that make use of private and/or public sources of financing. Many potential scenarios for ownership and transaction structures exist. HUD must ensure that public housing rental regulations and public housing development regulations, which include wider HUD and Federal statutes and regulations, e.g., OMB Circulars, Fair Housing Act, Americans with Disabilities Act, are followed by PHAs and their private sector partners.

Agency form numbers, if applicable: HUD-50029, HUD-50030, Regulatory and Operating Agreement (form number pending). All other information will be collected via unique legal documents.

Members of affected public:. Real Estate development and management entities, financial entities, Community Development entities, State and Local Governments.

Estimation of the total number of hours needed to prepare the information collection including number of respondents, frequency of response, and hours of response:

Frequency of Submission: Once per Mixed-Finance transaction.

HUD Form Number | No. of respondents | Frequency of response | Estimated hours of preparation | Total annual burden hours
HUD-50029 | 40 | 1 | 16 | 640
HUD-50030 | 70 | 1 | 16 | 1,120
Homeownership Addendum | 40 | 1 | 8 | 320
Regulatory and Operating Agreement | 70 | 1 | 4 | 280
Mixed-Finance Amendment to the Annual Contributions Contract | 70 | 1 | 8 | 560
Mixed-Finance Declaration of Restrictive Covenants | 70 | 1 | .25 | 17.5
Mixed-Finance Certifications and Assurances | 70 | 1 | .25 | 17.5
Mixed-Finance Final Title Policy | 70 | 1 | .25 | 17.5
Mixed-Finance Legal Opinion | 70 | 1 | 1 | 70
Total Hrs. |  |  |  | 3,042.5

Members of affected public: local governments, public housing authorities, nonprofits, and for-project developers that apply jointly with a public entity.

Status of the proposed information collection: New collection.

Authority: Section 3506 of the Paperwork Reduction Act of 1995, 44 U.S.C. Chapter 35, as amended.

Dated: September 17, 2010.
Merrie Nichols-Dixon,
Acting Deputy Assistant Secretary for Policy, Programs, and Legislative Initiatives.

[FR Doc. 2010-24039 Filed 9-24-10; 8:45 am]

BILLING CODE 4210-67-P